DEPARTMENT OF LABOR

Employee Benefits Security Administration

Advisory Council on Employee Welfare and Pension Benefit Plans Working Group on Communications to Retirement Plan Participants and Working Group on Retirement Plan Distributions and Options; Notice of Meeting

Pursuant to the authority contained in Section 512 of the Employee Retirement Income Security Act of 1974 (ERISA), 29 U.S.C. 1142, the Working Groups assigned by the Advisory Council on Employee Welfare and Pension Benefit Plans to study the issues of (1) communications to retirement plan participants and (2) retirement plan distributions will hold public teleconference meetings on October 20, 2005.

The sessions will take place in Room N 3437A, U.S. Department of Labor, 200 Constitution Avenue, NW., Washington, DC 20210. The purpose of the open meetings is for each Working Group to discuss its report/recommendations for the Secretary of Labor. The meetings will run from 12 p.m. to approximately 4 p.m., with the Working Group on Communications to Retirement Plan Participants meeting first, followed by the Working Group on Retirement Plan Distributions and Options.

Organizations or members of the public wishing to submit a written statement pertaining to the topic may do so by submitting 25 copies on or before October 12, 2005 to Larry Good, Executive Secretary, ERISA Advisory Council, U.S. Department of Labor, Suite N-5623, 200 Constitution Avenue, NW., Washington, DC 20210. Statements also may be submitted electronically to good.larry@dol.gov. Statements received on or before October 12, 2005 will be included in the record of the meeting. Individuals or representatives of organizations wishing to address the Working Group should forward their requests to the Executive Secretary or telephone (202) 693-8668. Oral presentations will be limited to 20 minutes, time permitting, but an extended statement may be submitted for the record. Individuals with disabilities who need special accommodations should contact Larry Good by October 12 at the address indicated.

Signed at Washington, DC, this 27th day of September, 2005.
Ann L. Combs,
Assistant Secretary, Employee Benefits Security Administration.

[FR Doc. 05-19740 Filed 9-30-05; 8:45 am]

BILLING CODE 4510-29-P